DEPARTMENT OF THE INTERIOR

Fish and Wildlife Service

Notice of Availability Technical/Agency Draft of the Third Revision of the Florida Panther Recovery Plan for Review and Comment

AGENCY: Fish and Wildlife Service, Interior.

ACTION: Notice of document availability and public comment period.

SUMMARY: The Fish and Wildlife Service announces the availability of the Technical/Agency Draft of the Third Revision of the Florida Panther Recovery Plan. The Florida panther (Puma concolor coryi) has disappeared from more than 95 percent of its historic range as a result of human persecution and habitat loss. This draft of the recovery plan includes specific recovery objectives and criteria to be met in order to reclassify (downlist) and eventually delist the Florida panther under the Endangered Species Act of 1973, as amended (Act). The Service solicits review and comment on this draft recovery plan.

DATES: In order to be considered, we must receive comments on the draft recovery plan on or before April 3, 2006.

ADDRESSES: Copies of the Technical/Agency Draft of the Third Revision of the Florida Panther Recovery Plan can be obtained by contacting the U.S. Fish and Wildlife Service, South Florida Ecological Services Office, 1339 20th Street, Vero Beach, Florida 32960 (772-562-3909) or by visiting our Web sites at http://endangered.fws.gov or http://verobeach.fws.gov. If you wish to comment, you may submit your comments by either of two methods:

1. You may submit written comments and materials to the Field Supervisor, at the above address.

2. You may hand-deliver written comments to our South Florida Ecological Services Office, 1339 20th Street, Vero Beach, Florida 32960, or fax your comments to (772) 562-4288.

Comments and materials received are available for public inspection on request, by appointment, during normal business hours at the above address.

FOR FURTHER INFORMATION CONTACT: Chris Belden at the South Florida Ecological Services Office, (772) 562-3909, ext. 237.

SUPPLEMENTARY INFORMATION:

Background

Restoring listed animals and plants to the point where they are again secure, self-sustaining components of their ecosystems is a primary goal of our threatened and endangered species program. To help guide the recovery effort, we prepare recovery plans for listed species native to the United States, pursuant to section 4(f) of the Act, unless such a plan would not promote the conservation of a particular species. Recovery plans describe actions that may be necessary for conservation of the species, establish criteria for reclassification from endangered to threatened status or removal from the list of threatened and endangered species, and estimate the time and cost for implementing the needed recovery measures.

The Florida panther is the last subspecies of Puma still surviving in the eastern United States. Historically occurring throughout the southeastern United States, today the panther is restricted to less than 5 percent of its historic range in one breeding population of fewer than 100 animals, located in south Florida.

The panther is threatened with extinction, and human development in panther habitat negatively impacts recovery. Panthers are wide ranging, secretive, and occur at low densities. They require large contiguous areas to meet their social, reproductive, and energetic needs. Panther habitat selection is related to prey availability (i.e., habitats that make prey vulnerable to stalking and capturing are selected). Limiting factors for the panther are habitat availability, prey availability, and lack of human tolerance.

Habitat loss, degradation, and fragmentation are among the greatest threats to panther survival, while human intolerance of panthers is one of the greatest threats to their recovery. Vehicle strikes and problems associated with being a single, small, isolated population have continued to keep the panther population at its current low numbers. Potential panther habitat throughout the Southeast continues to be affected by urbanization, residential development, conversion to agriculture and silviculture, mining and mineral exploration, and lack of land use planning that recognizes panther needs. Public opinion is critical to attainment of recovery goals and reintroduction efforts. Addressing social opposition to panthers will be the most difficult aspect of panther recovery and must be resolved before reintroduction efforts are initiated.

The Service issued the first Florida Panther Recovery Plan in 1981. The plan was revised in 1987 and 1995. In 2001, the Service initiated the current process to revise the plan a third time. Section 4(f) of the Act requires that a public notice and an opportunity for public review and comment be provided during recovery plan development. Accordingly, the Technical/Agency Draft of the Third Revision of the Florida Panther Recovery Plan is being made available for public review and comment before a decision is made on its approval.

The strategy for Florida panther recovery sets an intermediate goal of downlisting from endangered to threatened with the ultimate goal of delisting. To achieve both the intermediate and ultimate goals, the recovery plan identifies three objectives which, collectively, describe the conditions necessary to achieve recovery. These objectives are:

1. Maintain, restore, and expand the Florida panther population and its habitat in south Florida and, if feasible, expand the known occurrence of Florida panthers north of the Caloosahatchee River to maximize the probability of the long-term persistence of this metapopulation.

2. Identify, secure, maintain, and restore habitat in potential reintroduction areas within the panther's historic range, and establish viable populations of the panther outside south and south-central Florida.

3. Facilitate panther conservation and recovery through public awareness and education.

To realize these objectives for downlisting and delisting, this plan presents objective, measurable criteria that when met would result in a determination that delisting is warranted. These criteria are based on the number of individuals and number of populations that provide for demographically and genetically viable populations as determined by several population viability analyses to ensure resilience to catastrophic events. The threats to the Florida panther will need to be addressed to attain these criteria.

Downlisting of the Florida panther should be considered when:

1. Two viable populations of at least 240 individuals (adults and subadults) each have been established and subsequently maintained for a minimum of 14 years (or two generations).

2. Sufficient habitat quality, quantity, and spatial configuration to support these populations is retained/protected or secured in the long term.

Delisting of the Florida panther should be considered when:

1. Three viable, self-sustaining populations of at least 240 individuals (adults and subadults) each have been established and subsequently maintained for a minimum of fourteen years.

2. Sufficient habitat quality, quantity, and spatial configuration to support these populations is retained/protected or secured in the long-term.

A viable population, for purposes of Florida panther recovery, has been defined as one in which there is a 95 percent probability of persistence for 100 years. This population may be distributed in a metapopulation structure composed of subpopulations that total the appropriate number of individuals. There must be exchange of individuals and gene flow among subpopulations. For downlisting, exchange of individuals and gene flow can be either natural or through management. If managed, a commitment to such management must be formally documented and funded. For delisting, exchange of individuals and gene flow among subpopulations must be natural (i.e., not manipulated or managed). Habitat should be in relatively unfragmented blocks that provide for food, shelter, and characteristic movements (e.g., hunting, breeding, dispersal, and territorial behavior) and support each metapopulation at a density of 2 to 3 animals per 100 square miles (259 square kilometers), resulting in a minimum of 8,000 to 12,000 square miles (20,720 to 31,080 square kilometers) per metapopulation of 240 panthers.

Public Comments Solicited

We solicit written comments on the recovery plan described. We will consider all comments received by the date specified above prior to a decision on final approval of the revised recovery plan.

Our practice is to make all comments, including names and home addresses of respondents, available for public review during regular business hours. Individual respondents may request that we withhold their home addresses from the record, which we will honor to the extent allowable by law. In some circumstances, we would withhold also from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533(f).

Dated: January 11, 2006.
Cynthia K. Dohner,
Acting Regional Director, Southeast Region.

[FR Doc. 06-825 Filed 1-30-06; 8:45 am]

BILLING CODE 4310-55-P